DEPARTMENT OF ENERGY

Federal Energy Regulatory Commission

[Docket No. RP03-91-000]

Transwestern Pipeline Company; Notice of Proposed Changes in FERC Gas Tariff

November 26, 2002.

Take notice that on November 21, 2002, Transwestern Pipeline Company (Transwestern) tendered for filing as part of its FERC Gas Tariff, Second Revised Volume No. 1, the following tariff sheets, to become effective January 1, 2003:

One Hundred Twenty-Seventh Revised Sheet No. 5

Thirty-Second Revised Sheet No. 5A

Twenty-Fourth Revised Sheet No. 5A.02

Twenty-Fourth Revised Sheet No. 5A.03

Twenty-Ninth Revised Sheet No. 5B

Transwestern states that the purpose of this filing is to set forth the approved 2003 Gas Research Institute (GRI) surcharges for the 2003 calendar year to be effective January 1, 2003, in accordance with the Commission's Order approving The Gas Research Institute's Year 2003 Research, Development and Demonstration Program and 2002-2006 Five-Year Plan issued on September 19, 2001, in Docket No. RP01-434-000.

Transwestern states that: (1) High-Load factor firm shippers under Transwestern's Rate Schedules FTS-1, EFBH, FTS-3 and LFT (i.e., FTS-1, EFBH, FTS-3 and LFT shippers with a load factor greater than 50%) will be assessed a GRI demand surcharge of $0.0500 per Dth/month ($0.0016 per Dth/day); (2) Low-load factor firm shippers under Transwestern's Rate Schedules FTS-1, EFBH, FTS-3 and LFT (i.e., FTS-1, EFBH, FTS-3 and LFT shippers with a load factor less than or equal to 50%) will be assessed a GRI demand surcharge of $0.0310 per Dth/month ($0.0010 per Dth/day); (3) Firm shippers under Transwestern's FTS-2 Rate Schedule will be assessed a GRI volumetric surcharge of $0.0060 per Dth; and (4) Firm shippers under Transwestern's FTS-01, EFBH, FTS-3 and LFT Rate Schedules and interruptible shippers under Transwestern's ITS-1 Rate Schedule will be assessed a GRI commodity surcharge of $0.0040 per Dth.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's website at http://www.ferc.gov using the “FERRIS” link. Enter the docket number excluding the last three digits in the docket number field to access the document. For Assistance, please contact FERC Online Support at FERCOnlineSupport@ferc.gov or toll-free at (866) 208-3676, or TTY, contact (202) 502-8659. Comments, protests and interventions may be filed electronically via the Internet in lieu of paper. The Commission strongly encourages electronic filings. See 18 CFR 385.2001(a)(1)(iii) and the instructions on the Commission's web site under the “e-Filing” link.

Linwood A. Watson, Jr.,
Deputy Secretary.

[FR Doc. 02-30723 Filed 12-3-02; 8:45 am]

BILLING CODE 6717-01-P